DEPARTMENT OF LABOR

Employment and Training Administration

[TA-W-55,871]

Merrow Machine Company, Newington, CT; Notice of Termination of Investigation

Pursuant to Section 221 of the Trade Act of 1974, as amended, an investigation was initiated on October 27, 2004 in response to a worker petition filed by International Union of Electronic, Electrical, Salaried, Machine and Furniture Workers—Communications Workers of America, Local 249, on behalf of workers at Merrow Machine Company, Newington, Connecticut.

The Department issued a negative determination (TA-W-55,871) applicable to the petitioning group of workers on July 13, 2004. No new information or change in circumstances is evident which would result in a reversal of the Department's previous determination. Consequently, further investigation would serve no purpose, and the investigation has been terminated.

Signed at Washington, DC, this 2nd day of December, 2004.
Elliott S. Kushner,
Certifying Officer, Division of Trade Adjustment Assistance.

[FR Doc. 04-28038 Filed 12-22-04; 8:45 am]

BILLING CODE 4510-30-M